ENVIRONMENTAL PROTECTION AGENCY

40 CFR Part 80

[EPA-HQ-OAR-2017-0627; FRL-9971-67-OAR]

Periodic Reviews of the Renewable Fuel Standard Program

AGENCY: Environmental Protection Agency (EPA).

ACTION: Notification of availability.

SUMMARY: The Environmental Protection Agency (EPA) is required to conduct periodic reviews of certain aspects of the Renewable Fuel Standard (RFS) program under the Clean Air Act. This Notification of Availability (NOA) announces the availability of a document titled “Periodic Reviews for the Renewable Fuel Standard Program.” The document describes EPA's interpretation of the statutory requirement to conduct periodic reviews, and prior actions that EPA has taken to fulfill its obligations to conduct such reviews.

DATES: December 12, 2017.

FOR FURTHER INFORMATION CONTACT: Julia MacAllister, Office of Transportation and Air Quality, Assessment and Standards Division, Environmental Protection Agency, 2000 Traverwood Drive, Ann Arbor, MI 48105; telephone number: 734-214-4131; email address: macallister.julia@epa.gov.

SUPPLEMENTARY INFORMATION:

I. How can I get copies of this document and other related information?

A. Docket

EPA has established a docket for this action under Docket ID No. EPA-HQ-OAR-2017-0627. Publicly available docket materials are available either electronically through www.regulations.gov or in hard copy at the EPA Docket Center, (EPA/DC) EPA West, Room 3334, 1301 Constitution Ave. NW, Washington, DC. The EPA Docket Center Public Reading Room is open from 8:30 a.m. to 4:30 p.m., Monday through Friday, excluding legal holidays. The telephone number for the Public Reading Room is (202) 566-1744.

B. Electronic Access

You may access this Federal Register document electronically from the Government Printing Office under the “Federal Register” listings at FDSys (http://www.gpo.gov/fdsys/browse/collection.action?collectionCode=FR).

II. Overview

Under section 211(o)(11) of the Clean Air Act, EPA is required to conduct certain periodic reviews. A separate document entitled, “Periodic Reviews for the Renewable Fuel Standard Program” explains our interpretation of the statutory text, including both ambiguities and unintelligible aspects of subparagraph (C) of CAA section 211(o)(11). That document also describes our fulfillment of the obligation to conduct periodic reviews notwithstanding the interpretive issues, and the contexts in which we have used the results of those periodic reviews. That document, and other supporting documents, are available in the docket.

Dated: November 30, 2017.
Christopher Grundler,
Director, Office of Transportation and Air Quality.

[FR Doc. 2017-26422 Filed 12-11-17; 8:45 am]

BILLING CODE 6560-50-P